DEPARTMENT OF TRANSPORTATION

Surface Transportation Board

[STB Finance Docket No. 34167]

Richard J. Corman-Continuance in Control Exemption-R.J. Corman Equipment Company, LLC

Richard J. Corman (Corman), a noncarrier individual, has filed a verified notice of exemption to continue in control of R.J. Corman Equipment Company, LLC (RJCE), upon RJCE's becoming a Class III rail carrier.

The transaction was scheduled to be consummated on or after January 24, 2002, the effective date of the exemption.

This transaction is related to two simultaneously filed notices of exemption: STB Finance Docket No. 34165, R.J. Corman Equipment Company, LLC—Acquisition Exemption—Line of CSX Transportation, Inc., wherein RJCE seeks to acquire the Dawkins Subdivision from CSXT Transportation, Inc.; and STB Finance Docket No. 34166, R.J. Corman Railroad Company/Bardstown Line—Lease and Operation Exemption—Line of R.J. Corman Equipment Company, LLC, wherein R.J. Corman Railroad Company/Bardstown Line (RJCR) seeks to lease and operate the rail line being acquired by RJCE in STB Finance Docket No. 34165. RJCR is an existing Class III rail carrier operating in the State of Kentucky.

Corman controls through stock ownership seven Class III rail carriers: R.J. Corman Railroad Company/Pennsylvania Lines, Inc., operating in Pennsylvania; R.J. Corman Railroad Company/Memphis Line, operating in Tennessee and Kentucky; R.J. Corman Railroad Company/Western Ohio Line, operating in Ohio; R.J. Corman Railroad Company/Cleveland Line operating in Ohio; R.J. Corman Railroad Company/Bardstown Line, operating in Kentucky; R.J. Corman Railroad Company/Allentown Lines, Inc., operating in Pennsylvania and New York; and Clearfield and Mahoning Railway Company, operating in Pennsylvania.

Corman states that the rail line to be acquired by RJCE will not connect with the rail lines of any existing rail carrier in their corporate family, this control transaction is not part of a series of anticipated transactions that would result in such a connection, and this control transaction does not involve a Class I carrier. Therefore, the transaction is exempt from the prior approval of requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the verified notice contains false or misleading information, the exemption is void ab initio. Petitions to revoke the exemption under 49 U.S.C. 10502(d) may be filed at any time. The filing of a petition to revoke will not automatically stay the transaction.

An original and 10 copies of all pleadings referring to STB Finance Docket No. 34167, must be filed with the Surface Transportation Board, Office of the Secretary, Case Control Unit, 1925 K Street, NW, Washington, DC 20423-0001. In addition, a copy of each pleading must be served on Kevin M. Sheys, Kirkpatrick & Lockhart LLP, 1800 Massachusetts Avenue—2nd Floor, Washington, DC 20036.

Board decisions and notices are available on our website at “WWW. STB.DOT.GOV.”

Decided: February 8, 2002.
By the Board, David M. Konschnik, Director, Office of Proceedings.
Vernon A. Williams,
Secretary.

[FR Doc. 02-3672 Filed 2-14-02; 8:45 am]

BILLING CODE 4915-00-P